DEPARTMENT OF STATE

[Public Notice 6257]

Shipping Coordinating Committee; Notice of Subcommittee Meetings

The Shipping Coordinating Committee (SHC), through its Subcommittee on Radiocommunications and Search and Rescue Sub-Committee, will conduct open meetings at 9:30 a.m. on Wednesday, October 15, 2008; Wednesday, November 5, 2008; and Wednesday, December 17, 2008. The meetings are scheduled to be held in suite 1060 of the Radio Technical Commission for Maritime Services (RTCM), 1800 North Kent Street, Arlington, VA 22209. The purpose of these SHC subcommittee meetings is to prepare for the 13th Session of the International Maritime Organization (IMO) Subcommittee on Radiocommunications and Search and Rescue (COMSAR 13) to be held at IMO Headquarters in London, England from January 19-23, 2009. The primary matters to be considered at COMSAR 13 include:

• Global Maritime Distress and Safety System (GMDSS);

• International Telecommunication Union (ITU) maritime radiocommunication matters;

• Satellite services (Inmarsat and Cospas-Sarsat);

• Matters concerning search and rescue, including those related to the 1979 SAR Conference and the implementation of the GMDSS;

• Developments in maritime radiocommunication systems and technology;

• Revision of the International Aeronautical and Maritime Search and Rescue (IAMSAR) Manual;

• Development of procedures for updating shipborne navigation and communication equipment;

• Measures to protect the safety of persons rescued at sea;

• Work program and agenda for COMSAR 14;

• Election of Chairman and Vice-Chairman for 2010.

Members of the public may attend these meetings up to the seating capacity of the rooms. Interested persons may seek information, including meeting room numbers, by writing: Mr. Russell S. Levin, U.S. Coast Guard Headquarters, Commandant (CG-622), Jemal Building Room JR10-1216, 1900 Half Street, SW., Washington, DC 20593 or by e-mail to Russell.S.Levin@uscg.mil.

Dated: September 16, 2008.
Mark Skolnicki,
Executive Secretary, Shipping Coordinating Committee, Department of State.

[FR Doc. E8-22432 Filed 9-23-08; 8:45 am]

BILLING CODE 4710-09-P